DEPARTMENT OF HOUSING AND URBAN DEVELOPMENT

24 CFR Part 3280

[Docket No. FR-4622-F-01]

Manufactured Home Construction and Safety Standards; Manufactured Home Tires; Amendment of HUD Interpretative Bulletin J-1-76

AGENCY: Office of the Assistant Secretary for Housing—Federal Housing Commissioner, HUD.

ACTION: Amendment of Interpretative Bulletin.

SUMMARY: HUD is amending Interpretative Bulletin J-1-76 to remove a paragraph that references an expiration date applicable to one part of the Interpretative Bulletin. After that date the part of the Interpretative Bulletin that permits tires used to transport manufactured homes to be loaded to a maximum of 18 percent above their rated load capacity would no longer be effective. Similarly, elsewhere in today's Federal Register, the Federal Motor Carrier Safety Administration (“FMCSA”) of the Department of Transportation is publishing a final rule delaying the date for the expiration of its regulations permitting the same loading of tires for manufactured homes. Consistent with an earlier joint rulemaking, these actions are being taken mutually by HUD and the FMCSA in response to information that the current requirements achieve an appropriate level of safety.

EFFECTIVE DATE: November 15, 2000.

FOR FURTHER INFORMATION CONTACT: Rebecca J. Holtz, Acting Director, Office of Consumer and Regulatory Affairs, Room 9146, Department of Housing and Urban Development, 451 Seventh Street, SW, Washington, DC 20410; telephone 202-708-0502 (this is not a toll-free number). Hearing-or speech-impaired individuals may call 1-800-877-8339 (Federal Information Relay Service TTY, which is a toll-free number).

SUPPLEMENTARY INFORMATION: On February 18, 1998 (63 FR 8330), the Federal Highway Administration (“FHWA”) (the FMCSA is the successor authority for this rulemaking) amended its regulations concerning the amount of load on a manufactured home tire. On that same day and in that same publication, HUD amended its Manufactured Home Construction and Safety Standards Interpretative Bulletin that addressed the same subject (63 FR 8330, 8339).

Through these amendments, the FHWA and HUD reduced the amount of tire overloading allowed (at the time up to 50 percent above the tire manufacturers' load ratings) on tires used to transport manufactured homes. As a result of the rulemaking, the maximum amount of loading on a manufactured home tire was reduced so that it cannot exceed the tire manufacturer's load rating by more than 18 percent. Manufactured homes transported on tires overloaded by 9 percent or more may not be operated at speeds exceeding 80 km/hr (50mph). The rulemaking allowed 18 percent tire overloading for a 2-year period, which will end on November 20, 2000.

In that initial rulemaking, the FHWA and HUD indicated that unless both agencies are persuaded that 18 percent overloading does not pose a risk to the traveling public or have an adverse impact on safety or the ability of motor carriers to transport manufactured homes, any overloading of tires beyond their design capacities will be prohibited after November 20, 2000.

HUD and FMCSA have agreed that there is sufficient basis to extend the date for allowing 18 percent overloading of tires used to transport manufactured homes. Elsewhere in today's Federal Register, the FMCSA is publishing a final rule that delays until December 31, 2001, the termination date, after which the FMCSA regulations would not continue to permit overloading of tires. HUD is amending its Interpretative Bulletin (IB) J-1-76 to be consistent with the FMCSA action. As discussed in the FMCSA final rule, both FMCSA and HUD believe that additional time, beyond the November 20, 2000, expiration date, is needed to review available data and information more thoroughly before permanent action can be taken to define permissible loading of such tires. HUD and the FMCSA will continue to coordinate review of this matter, and interested persons are encouraged to refer to the FMCSA final rule for additional information.

In amending IB J-1-76 to remove the reference to the expiration date, HUD will continue to permit, as allowed under current law, tires used to transport manufactured homes to be inflated to a maximum of 18 percent above their rated load capacity. Because this action must be taken quickly to avoid a period of time in which the requirements intended by HUD (and the FMCSA) would not be in effect, and in which industry and the public would not be certain of the applicable requirements, HUD has deemed that it would not be in the public interest to issue this amendment of the IB for public comment. If HUD and FMCSA subsequently determine that the requirements relating to overloading of tires used to transport manufactured homes need to be changed, those changes will be adopted in accordance with law and published in the Federal Register.

The paragraph that is removed from Section D of IB J-1-76 currently reads:

[This Section D is effective November 16, 1998.] Manufactured homes that are labeled on or after the effective date must comply with this Section D. This provision will expire November 20, 2000, unless extended by mutual consent of the Federal Highway Administration and HUD during any subsequent rulemaking.]

Accordingly, Interpretative Bulletin J-1-76 is amended by revising Section D, as follows:

Note: This bulletin does not appear in the Code of Federal Regulations.

Interpretative Bulletin J-1-76, Transportation—Subpart J of Part 3280

* * * * *

D. Section 3280.904(b)(8)—Tires, Wheels, And Rims

Tires and rims shall be sized and fitted to axles in accordance with the gross axle weight rating determined by the manufactured home manufacturer. The permissible tire loading may be increased up to a maximum of 18 percent over the rated load capacity of the manufactured home tire marked on the sidewall of the tire or increased up to a maximum of 18 percent over the rated load capacity specified for the tire in any of the publications of any of the organizations listed in Federal Motor Vehicle Safety Standard (FMVSS) No. 119 (49 CFR 571.119, S5.1(b)).

Used tires may also be sized in accordance with the above criteria whenever the tread depth is at least 2/32 of an inch as determined by a tread wear indicator. The determination as to whether a particular used tire is acceptable shall also include a visual inspection of thermal and structural defects (e.g., dry rotting, excessive tire sidewall splitting, etc.). Wheels and rims shall be sized in accordance with the tire manufacturer's recommendations as suitable for use with the tires selected.

The load and cold inflation pressure imposed on the rim or wheel must not exceed the rim and wheel manufacturer's instructions even if the tire has been approved for a higher load or inflation. Tire cold inflation pressure limitations and the inflation pressure measurement correction for heat shall be as specified in 49 CFR 393.75(h).

* * * * *

Authority: 42 U.S.C. 3535(d) and 5424.

Dated: November 15, 2000.
William C. Apgar,
Assistant Secretary for Housing-Federal Housing Commissioner.

[FR Doc. 00-29752 Filed 11-17-00; 9:53 am]

BILLING CODE 4210-27-P